DEPARTMENT OF THE TREASURY

Internal Revenue Service

26 CFR Part 20

[REG-119532-08]

RIN 1545-BH94

Section 2036—Graduated Retained Interests; Correction

AGENCY: Internal Revenue Service (IRS), Treasury.

ACTION: Correction to notice of proposed rulemaking.

SUMMARY: This document contains corrections to a notice of proposed rulemaking (REG-119532-08) that was published in the Federal Register on Thursday, April 30, 2009, at 74 FR 19913. The corrections relate to proposed regulations that provide guidance on the portion of trust property includible in the grantor's gross estate if the grantor has retained the use of the property, the right to an annuity, unitrust, graduated retained interest, or other payment from such property for life, for any period not ascertainable without reference to the grantor's death, or for a period that does not in fact end before the grantor's death.

FOR FURTHER INFORMATION CONTACT: Theresa M. Melchiorre, (202) 622-3090 (not a toll-free number).

SUPPLEMENTARY INFORMATION:

Background

The notice of proposed rulemaking that is the subject of this document is under section 2036 of the Internal Revenue Code.

Need for Correction

As published, the notice of proposed rulemaking (REG-119532-08) that published on April 30, 2009 (74 FR 19913) does not accurately reflect the information intended to be communicated and thus needs clarification.

Correction to Publication

Accordingly, the notice of proposed rulemaking which was the subject of FR Doc. E9-10003 is corrected as follows:

On page 19917, § 20.2036-1 (c)(2)(iii) Example 7 (iii), the chart at the top of the page is corrected to read as follows:

§ 20.2036-1 Transfers with retained life estate.

* * * * *

(c) * * *

(2) * * *

(iii) * * *

Example 7. * * *

(iii) * * *

* * * * *

Cynthia E. Grigsby,
Senior Federal Register Liaison Officer, Publications and Regulations Branch, Legal Processing Division, Associate Chief Counsel (Procedure and Administration).

[FR Doc. E9-12855 Filed 6-2-09; 8:45 am]

BILLING CODE 4830-01-P